DEPARTMENT OF TRANSPORTATION

Federal Aviation Administration

14 CFR Part 71

[Docket No. FAA-2025-4609; Airspace Docket No. 25-AGL-9]

RIN 2120-AA66

Revocation of Very High Frequency Omnidirectional Range Federal Airway V-320 in the Vicinity of Mount Pleasant, Michigan

AGENCY: Federal Aviation Administration (FAA), DOT.

ACTION: Notice of proposed rulemaking (NPRM).

SUMMARY: This action proposes to revoke Very High Frequency Omnidirectional Range (VOR) Federal Airway V-320 in the vicinity of Mount Pleasant, Michigan. The FAA is proposing this action due to the planned decommissioning of the VOR portion of the Mount Pleasant, MI VOR/Distance Measuring Equipment (DME) navigational aid (NAVAID). The VOR portion of this NAVAID is being decommissioned as part of the FAA's VOR Minimum Operational Network (MON) program. The DME portion of this NAVAID will be retained.

DATES: Comments must be received on or before January 26, 2026.

ADDRESSES: Send comments identified by FAA Docket No. FAA-2025-4609 and Airspace Docket No. 25-AGL-9 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11K, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Steven Roff, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would amend the airway structure as necessary to preserve the safe and efficient flow of air traffic within the National Airspace System.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Operations Support Group, Central Service Center, Federal Aviation Administration, 10101 Hillwood Parkway, Fort Worth, TX 76177.

Incorporation by Reference

VOR Federal Airways are published in paragraph 6010 of FAA Order JO 7400.11, Airspace Designations and Reporting Points, which is incorporated by reference in 14 CFR 71.1 on an annual basis. This document proposes to amend the current version of that order, FAA Order JO 7400.11K, dated August 4, 2025, and effective September 15, 2025. These updates would be published in the next update to FAA Order JO 7400.11. FAA Order JO 7400.11K, which lists Class A, B, C, D, and E airspace areas, air traffic service routes, and reporting points, is publicly available as listed in the ADDRESSES section of this document.

Background

The FAA is planning to decommission the VOR portion of the Mount Pleasant, MI, VOR/DME in support of the FAA's VOR MON program as listed in the final policy statement notice, “Provision of Navigation Services for the Next Generation Air Transportation System (NextGen) Transition to Performance-Based Navigation (PBN) (Plan for Establishing a VOR Minimum Operational Network),” published in the Federal Register on July 26, 2016 (81 FR 48694) under Docket No. FAA-2011-1082.

Although the VOR portion of the Mount Pleasant VOR/DME is planned for decommissioning, the co-located DME portion of the NAVAID is being retained. The DME portion is being retained in support of current and future NextGen PBN procedures. The Air Traffic Service (ATS) route affected by the planned decommissioning of the Mount Pleasant VOR is V-320.

V-320 currently extends between the Pellston, MI, VOR/Tactical Air Navigation (VORTAC), the Traverse City, MI, VOR/DME, the Mount Pleasant VOR/DME, and the Saginaw, MI, VOR/DME. The segment of V-320 between the Pellston VORTAC and the Traverse City VOR/DME is not directly supported by the Mount Pleasant VOR; however, this segment is overlaid by V-193 and therefore duplicative in nature and will therefore further supports removal of that segment of V-320. The other segments of V-320 are supported by the Mount Pleasant VOR and will become unusable when the NAVAID is decommissioned. Instrument Flight Rules (IFR) air traffic equipped for conventional navigation, flying through and around the area affected by the loss of V-320, may utilize adjacent VOR Federal Airways V-78, V-133, V-420. Area Navigation (RNAV) equipped aircraft may also navigate via RNAV Route T-265 or may utilize point-to-point navigation via the airspace fixes that remain in place. Visual flight rules (VFR) pilots, who normally navigate via the impacted Victor Airways, may also utilize the adjacent VOR Federal Airways, or RNAV Route T-265, and point-to-point navigation, if the aircraft is properly equipped. Additionally, all aircraft have the option to request and receive radar vectors from Air Traffic Control, to facilitate navigation.

The Proposal

The FAA is proposing an amendment to 14 CFR part 71 to revoke VOR Federal Airway V-320 in the vicinity of Mount Pleasant, Michigan.

V-320: V-320 currently extends between the Pellston, MI, VOR/Tactical Air Navigation (VORTAC), the Traverse City, MI, VOR/DME, the Mount Pleasant VOR/DME, and the Saginaw, MI, VOR/DME. The FAA is proposing to revoke this route in its entirety.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1G, “FAA National Environmental Policy Act Implementing Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, is amended as follows:

Paragraph 6010 VOR Federal Airways.

* * * * *

V-320 [Removed]

* * * * *

Issued in Washington, DC, on December 8, 2025.
Alex W. Nelson,
Acting Manager, Rules and Regulations Group.

[FR Doc. 2025-22632 Filed 12-11-25; 8:45 am]

BILLING CODE 4910-13-P